DEPARTMENT OF AGRICULTURE

Commodity Credit Corporation

Farm Service Agency

Notice of Availability of the Final Supplemental Environmental Impact Statement for the Conservation Reserve Program

AGENCY: Commodity Credit Corporation and Farm Service Agency, USDA.

ACTION: Notice of Availability (NOA); request for comments.

SUMMARY: This notice announces that the Farm Service Agency (FSA), on behalf of the Commodity Credit Corporation (CCC), completed a Final Supplemental Programmatic Environmental Impact Statement (Final SPEIS) that examined the potential environmental consequences associated with implementing the changes to the Conservation Reserve Program (CRP) specified in the Agricultural Act of 2014 (2014 Farm Bill), and will assist in developing new regulations. FSA is requesting comments on the Final SPEIS.

DATES: We will consider comments that we receive by February, 15, 2015.

ADDRESSES: We invite you to submit comments on the Final SPEIS. In your comments, include the volume, date, and page number of this issue of the Federal Register. You may submit comments by any of the following methods:

• Federal eRulemaking Portal: Go to http://www.regulations.gov. Follow online instructions for submitting comments.

• E-Mail: CRPComments@cardnotec.com.

• Online: Go to the Web site at http://crpspeis.com. Follow online instructions for submitting comments.

• Fax: (757) 594-1469.

• Mail, hand delivery, or courier: CRP SPEIS, C/O Cardno, 501 Butler Farm Road, Suite H, Hampton, VA 23666.

A copy of the Final SPEIS is available through the FSA homepage: http://www.fsa.usda.gov/FSA/webapp?area=home&subject=ecrc&topic=nep-cd.

FOR FURTHER INFORMATION CONTACT: Nell Fuller, (202) 720-6303. Persons with disabilities who require alternative means for communication (Braille, large print, audio tape, etc.) should contact the USDA Target Center at (202) 720-2600 (voice).

SUPPLEMENTARY INFORMATION: The National Environmental Policy Act (NEPA, 42 U.S. C. 4321-4347) provides a means for the public to provide input on alternatives and environmental concerns for Federal programs or actions. The CRP Final SPEIS was completed as required by NEPA, the Council on Environmental Quality (CEQ) Regulations for Implementing the Procedural Provisions of NEPA (40 CFR parts 1500-1508), and FSA's NEPA regulations for compliance with NEPA (7 CFR part 799). FSA provided notice of its intent (NOI) to prepare the CRP SPEIS in the Federal Register on November 29, 2013 (78 FR 71561-71562), and solicited public comment on the preliminary alternatives for analyzing changes to CRP required by the 2014 Farm Bill. The Draft SPEIS public comment period began with a Notice of Availability (NOA) published in the Federal Register on July 15, 2014 (79 FR 41247-41249); some changes made to the SPEIS resulted from FSA analysis of those public comments.

In accordance with the 2014 Farm Bill, FSA plans to consolidate a number of conservation programs, which will have the effect of simplifying the programs, reducing overlapping goals, and reducing overall budgets. Moreover, many of the changes to CRP from the 2014 Farm Bill are administrative in nature, would not result in major changes to the current administration of CRP, or have been addressed in previous NEPA documentation concerning CRP. These changes do not require further analysis in the SPEIS. Those changes, and the justification for eliminating them from analysis, include the following, each of which is discussed below:

• Maximum enrollment authority;

• Farmable Wetlands Program enrollment changes;

• Tree thinning payments;

• Early termination of contracts;

• Managed harvesting and routine grazing payment reduction;

• Transition option funding;

• Prescribed grazing frequency; and,

• Intermittent and seasonal use of vegetative buffers.

Maximum Enrollment Authority

The maximum enrollment authority will be gradually reduced to 24 million acres by 2017, as required by the 2014 Farm Bill. The “2010 Conservation Reserve Program Supplemental Environmental Impact Statement” (referred to as the 2010 CRP SEIS) analyzed an alternative to reduce the enrollment authority to 24 million acres; therefore, that analysis is incorporated by reference.

Farmable Wetland Program Enrollment Changes

The change in the 2014 Farm Bill to reduce the maximum enrollment authority to 750,000 acres nationally (from 1 million) would still allow for up to approximately 410,000 acres of farmable wetlands to be enrolled in the Farmable Wetland Program. The mandated reduction in enrollment is not required to be analyzed since there is no discretion for any other level. Additionally, the mandatory reduction is not expected to affect actual enrollment, as historically enrollment has been well below the cap.

Tree Thinning Payments

The payment authority for tree thinning activities was reduced to $10 million and incentive payments are allowed. However, the 2014 Farm Bill change allows FSA to incentivize owners and operators to conduct other practices and utilize management tools that would promote forest management, enhance the overall health of tree stands, improve the condition of resources, or provide valuable habitat for wildlife. Less than $50,000 in payments has been provided for tree thinning activities since the enactment of the Food, Conservation, and Energy Act of 2008 (Pub. L. 110-246, commonly referred to as the 2008 Farm Bill). The reduction in funding available for tree thinning activities would not represent a real change in current use of the funds and does not require further analysis.

Early Termination of Contracts

As provided in the 2014 Farm Bill, the early termination provision of CRP that previously applied only to contracts entered into before January 1, 1995, will be modified to apply, only during fiscal year 2015, to allow CRP participants to elect early termination of certain CRP contracts, provided the contract has been in place for at least 5 years. The 2014 Farm Bill mandates providing an opportunity for the early termination of CRP contracts, if certain criteria are met; FSA does not have any discretion whether to implement that change. Therefore, this change does not require further NEPA analysis. FSA estimates that approximately 3 million acres would be eligible for early termination under the provision.

Managed Harvesting and Routine Grazing Payment Reduction

As required by the 2014 Farm Bill, a rental payment reduction of at least 25 percent for managed harvesting or routine grazing must be assessed. This change clarifies the existing administrative procedure related to these practices. A payment reduction of 25 percent was evaluated in the 2010 CRP SEIS; that analysis is incorporated by reference. Therefore, these changes do not require further analysis in the SPEIS.

Transition Option Funding

As specified in the 2014 Farm Bill, the funding authority to encourage the transfer of land from a retiring farmer or rancher to a beginning farmer or rancher, or to a socially disadvantaged farmer or rancher, would be increased to $33 million and would expand the eligibility to include farmers or ranchers who are military veterans (as defined in the Food, Agriculture, Conservation, and Trade Act of 1990, Pub. L. 101-624 (commonly referred to as the 1990 Farm Bill)). This is a non-discretionary, administrative change and does not require further analysis in this SPEIS.

Prescribed Grazing Frequency

FSA allows annual prescribed grazing for control of invasive plants. The 2010 CRP SEIS evaluated the impacts of prescribed grazing in compliance with a grazing plan, which is part of the Conservation Plan that includes frequency, timing, stocking rates, and type of grazing animal. That analysis is incorporated by reference. The 2014 Farm Bill provides clarification that such grazing can occur as determined in consultation with the State Technical Committee; this change does not require further analysis.

Intermittent and Seasonal Use of Vegetative Buffers

The 2014 Farm Bill allows for the intermittent and seasonal use of vegetative buffer practices incidental to agricultural production on lands adjacent to the buffer provided this use does not destroy the permanent vegetative cover. This is an activity that already occurs under the current administration of the program and is referred to as “incidental grazing.” The 2014 Farm Bill clarifies this existing administrative procedure. This section was included as a result of agency and public comments.

Alternatives

Many provisions of the 2014 Farm Bill are non-discretionary, meaning that implementation is mandatory and specifically required by to be implemented. As FSA has no decision-making authority over these non-discretionary aspects of the 2014 Farm Bill, they are assessed in the Final SPEIS as part of the No Action Alternative.

Other provisions of the 2014 Farm Bill provide overall guidance for CRP, but FSA has some discretion in how to implement those provisions. These discretionary aspects of the 2014 Farm Bill form the Proposed Action. In addition, FSA proposes to implement additional discretionary measures for targeting enrollment of environmentally sensitive lands and to expand the flexibility of emergency haying and grazing in drought-designated areas to provide necessary support to producers and ranchers during difficult times. The Final SPEIS assesses the following alternatives: The No Action Alternative and the Proposed Action.

No Action Alternative

The No Action Alternative includes the following, each of which is discussed below:

• Grasslands eligibility and authorized activities;

• Enrollment in new program during final year of contract; and

• Emergency haying and grazing payment reduction.

Grasslands Eligibility and Authorized Activities

The 2014 Farm Bill makes grasslands, which would have been previously eligible for the Grassland Reserve Program (GRP), eligible for enrollment in CRP. The eligibility of grasslands and authorized activities are the same as those previously defined for GRP. Grasslands enrollment would be limited to no more than 2 million acres at any given time and would count against the total CRP maximum enrollment authority. Enrollment would occur through Continuous Sign-up. Grasslands would be enrolled in 10- or 15-year contracts like other CRP acreage. Certain authorized activities on grasslands would differ from other CRP lands and include:

• Common grazing practices;

• Haying, mowing, or harvesting for seed production;

• Fire suppression, fire-related rehabilitation, and construction of fire breaks; and

• Grazing-related activities, such as fencing and livestock watering.

Enrollment in New Program During the Final Year of the Contract

In accordance with the 2014 Farm Bill, FSA will allow a CRP participant to enroll expiring CRP land into the Conservation Stewardship Program during the year prior to the expiration of the contract. FSA encourages agricultural and forestry producers to address resource concerns by undertaking additional conservation activities and improving and maintaining existing conservation systems. FSA pays participants for conservation performance—the higher the performance, the higher the payment. Land is enrolled in 5 year contracts through Continuous Sign-up. A stipulation in the 2014 Farm Bill would allow expiring CRP land to be enrolled in a new program, the Agricultural Conservation Easement Program, without violation of the CRP contract. In general, the Agricultural Conservation Easement Program combines the purposes of the Wetlands Reserve Program, the GRP, and the Farm and Ranchlands Protection Program by enrolling land in long-term or permanent easements.

Emergency Haying and Grazing Payment Reduction

As specified in the 2014 Farm Bill, harvesting, grazing, or other commercial use of the forage in response to a drought, flooding, or other emergency is authorized without any reduction in the rental rate. Under existing CRP rules, generally a 25 percent payment reduction is assessed for lands grazed or hayed during droughts or other emergencies. In response to worsening drought conditions in recent years, the rental payment reduction was reduced to 10 percent in 2012 and 2013. Removing the payment reduction for emergency haying and grazing is mandated in the 2014 Farm Bill and is therefore assessed as part of the No Action Alternative.

Proposed Action Alternative

Some elements of the 2014 Farm Bill provide overall guidance, but details of implementation are left to FSA's discretion. These discretionary aspects of the 2014 Farm Bill form the Proposed Action Alternative. In addition to the 2014 Farm Bill mandatory provisions, FSA proposes to implement additional discretionary measures for targeting enrollment of environmentally sensitive lands, increase flexibility in managed harvesting and routine grazing frequencies, and expand the flexibility of emergency haying and grazing in drought-designated areas. The targeted enrollment provision has been revised in response to agency and public comments. The components of the Proposed Action include the following, each of which is discussed below:

• Targeted enrollment;

• Managed harvesting and routine grazing frequencies; and

• Emergency haying and grazing on additional conservation practices.

Targeted Enrollment

The 2014 Farm Bill reduces the maximum enrollment for CRP to 24 million acres by 2017. The reduced enrollment authority requires on FSA to ensure enrolled land maximizes environmental benefits using available funding. Historically, FSA has used Continuous Sign-ups to target environmentally desirable lands through several initiatives and programs. As of September 2014, there were over 4 million acres enrolled under Continuous CRP.

The demand and need for conservation is increasing as budgetary and statutory constraints have tightened, and as a result FSA has explored alternative ways to enroll acres. To increase the environmental benefits generated per Federal dollar spent, FSA could implement a reverse auction when targeting enrollment for certain current or new initiatives. A reverse auction is simply a process in which many “sellers” compete with each other for the attention of a single “buyer” who then selects the most attractive offers from them. Appropriately developed, a limited reverse auction may motivate producers to submit a bid near the minimum amount they are willing to accept to enroll in CRP.

Managed Harvesting and Routine Grazing Frequencies

As specified in the 2014 Farm Bill, FSA continues to allow for managed harvesting (hay or biomass) and routine grazing of CRP acres provided that these activities are included in the Conservation Plan and are consistent with the conservation of soil, water quality, and wildlife habitat. Harvesting and grazing activities must still avoid the Primary Nesting Season. The State Technical Committee must develop appropriate vegetation management requirements and identify periods during which the activities could occur such that the frequency is:

• At least once every 5 years, but no more frequent than once every 3 years for managed harvesting; and

• Not more frequent than once every 2 years for routine grazing.

Emergency Haying and Grazing on Additional Conservation Practices

The Proposed Action includes making additional conservation practices that are currently ineligible for any type of haying or grazing, eligible for emergency haying and grazing to provide support to livestock producers during severe drought conditions. Allowing haying and grazing on the proposed conservation practices in drought-designated areas would require concurrence and approval by certain State or Federal agencies.

Public Involvement

The Final SPEIS provides a means for the public and any interested parties to provide comments about the CRP changes analyzed in the SPEIS. The Final SPEIS can be reviewed online at: http://www.fsa.usda.gov/FSA/webapp?area=home&subject=ecrc&topicnep-cd or at http://crpspeis.com.

FSA received eight comments from Federal, state, and local government agencies, as well as private organizations and members of the concerned public in response to the NOI. The comments raised 55 individual issues covering a range of topics including legislation changes, CRP maximum enrollment and acreages, regional differences in haying and grazing impacts, lack of thorough environmental and socioeconomic impact analysis in previous NEPA documentation, and CRP funding policy. The comments were considered in developing the Proposed Action and the SPEIS environmental consequences to ensure the concerns were adequately addressed.

The NOA provided a summary of the changes to CRP, the Proposed Action, and the No Action Alternative. Also included in the NOA was a description of how to provide comments, as well as a list of the dates, times, and locations of the public meetings that were held as a part of the public involvement process. The information about where and when those meeting were held are shown below in Table 1. FSA held 5 public meetings to provide information and opportunities for discussing the changes to CRP identified in the 2014 Farm Bill and analyzed in the Draft SPEIS. The public meetings featured an Open House format, and interested parties were invited to attend the meetings at any time during the allotted timeframes. Posters and informational handouts as well as FSA representatives were available for the duration of the meetings to answer questions concerning the Draft CRP SPEIS.

Table 1—Public Meeting Dates, Times, and Locations.
Date | Time | Location information
July 21, 2014 | 6:00 p.m.-8:00 p.m | Hilton Garden Inn, Spokane Airport, 9015 West SR Highway 2, Spokane, Washington, 99224.
July 22, 2014 | 6:00 p.m.-8:00 p.m | Holiday Inn, Great Falls, 1100 5th Street, South Falls, Montana, 59405.
August 4, 2014 | 6:00 p.m.-8:00 p.m | Plains Cotton Cooperative Association, 3301 East 50th Street, Lubbock, Texas, 79404.
August 5, 2014 | 6:00 p.m.-8:00 p.m | Stillwater Library, 1107 S Duck Street, Stillwater, Oklahoma, 74074.
August 6, 2014 | 6:00 p.m.-8:00 p.m | Courtyard By Marriott and Moorhead Area, Conference Center, 1080 28th Avenue, South, Moorhead, Minnesota, 56560.

FSA received 18 comments during the comment period. Those 18 comments included 75 issues to be considered in the Final SPEIS. Table 2 provides a breakdown of the comments by category.

Table 2—Number of Comments Received by Category
Comment category | Number of comments
Alternative | 1
Cumulative impacts | 3
Early termination of contract | 2
Emergency haying and grazing | 22
Farmable wetlands | 1
Final year of contract | 1
Grassland enrollment | 14
Haying and grazing payment reduction | 1
Intermittent and seasonal use of buffer | 1
Managed harvesting and routine grazing frequencies | 11

The comment summary report is included as an appendix in the CRP SPEIS. The report provides additional detail on the Draft SPEIS comment process, a copy of the NOA, copies of all public meeting materials, and responses to all 75 substantive issues and how they were addressed in the Final SPEIS.

Signed on December15, 2014.
Val Dolcini,
Administrator, Farm Service Agency, and Executive Vice President, Commodity Credit Corporation.

[FR Doc. 2014-29983 Filed 12-22-14; 8:45 am]

BILLING CODE 3410-05-P